DEPARTMENT OF STATE

[Public Notice: 10855]

Bureau of International Security and Nonproliferation; Imposition of Additional Sanctions on Russia Under the Chemical and Biological Weapons Control and Warfare Elimination Act of 1991

SUMMARY: On August 6, 2018, a determination was made that the Russian government used chemical weapons in violation of international law or lethal chemical weapons against its own nationals. Notice of this determination was published on August 27, 2018 in the Federal Register, under Public Notice 10519, which resulted in sanctions against Russia. Section 307(B) of the Chemical and Biological Weapons Control and Warfare Elimination Act of 1991 (CBW Act), requires a decision within three months of August 6, 2018 regarding whether Russia has met certain conditions described in the law. Additional sanctions on Russia are required if these conditions are not met. The Secretary of State decided on November 2, 2018 that Russia had not met the CBW Act's conditions and decided to impose additional sanctions on Russia on March 29, 2019.

DATES: This determination is effective on August 26, 2019.

FOR FURTHER INFORMATION CONTACT: Pamela K. Durham, Office of Missile, Biological, and Chemical Nonproliferation, Bureau of International Security and Nonproliferation, Department of State, Telephone (202) 647-4930.

SUPPLEMENTARY INFORMATION: Pursuant to Section 307(b) of the Chemical and Biological Weapons Control and Warfare Elimination Act of 1991, as amended (22 U.S.C. Section 5604(a) and Section 5605(a)), on March 29, 2019 the Secretary of State decided to impose additional sanctions on Russia. As a result, the following additional sanctions are hereby imposed:

1. Multilateral Development Bank Assistance: The United States Government shall oppose, in accordance with Section 701 of the International Financial Institutions Act (22 U.S.C. 262d), the extension of any loan or financial or technical assistance to Russia by international financial institutions.

2. Bank Loans: The United States Government shall prohibit any United States bank from making any loan or providing any credit to the government of Russia, except for loans or credits for the purpose of purchasing food or other agricultural commodities or products.

The Secretary of State has determined that it is essential to the national security interests of the United States to waive the application of this sanction in all respects, except that the authority of Executive Order 13883 shall be used by the Department of Treasury to prohibit United States banks from (1) participating in the primary market for non-ruble denominated bonds issued by the Russian sovereign issued after the enactment of these sanctions; and (2) providing non-ruble denominated loans to the Russian sovereign after the enactment of these sanctions, in both cases as further described in a Federal Register Notice issued by the Department of Treasury and implemented through the Directive and guidance published on the Office of Foreign Assets Control's website (http://www.treasury.gov/resource-center/sanctions/Programs/Documents/20190803_cbw_directive.pdf).

3. Further Export Restrictions: The authorities of section 6 of the Export Administration Act of 1979 shall be used to prohibit exports to Russia of all other goods and technology (excluding food and other agricultural commodities and products). The Secretary of State has determined that it is essential to the national security interests of the United States to waive the application of this sanction with respect to the following:

CBW: Exports and reexports of goods or technology controlled for reason CB (Chemical and Biological Weapons) pursuant to new licenses for Russian state-owned or state-funded enterprises provided that such licenses will be issued on a case-by-case basis, subject to a “presumption of denial” policy.

Other Reasons for Control: Exports and reexports of goods or technology controlled for AT (Anti-Terrorism), CC (Crime Control), FC (Firearms Convention), MT (Missile Technology), NP (Nuclear Nonproliferation), and RS (Regional Stability), pursuant to new licenses, provided that such licenses will be issued on a case-by-case basis, consistent with export licensing policy for Russia prior to enactment of these sanctions. For information on exports or reexports of goods or technology controlled for NS (National Security), see the notices at 83 FR 43723 and 83 FR 47390.

License Exceptions: Exports and reexports of goods or technology eligible under License Exceptions GOV, ENC, RPL, BAG, TMP, TSU, APR, CIV, and AVS.

Safety of Flight: Exports and reexports of goods or technology pursuant to new licenses necessary for the safety of flight of civil fixed-wing passenger aviation, provided that such licenses shall be issued on a case-by-case basis, consistent with export licensing policy for Russia prior to enactment of these sanctions.

Deemed Exports/Reexports: Exports and re-exports of goods or technology pursuant to new licenses for deemed exports and reexports to Russian nationals, provided that such licenses shall be issued on a case-by-case basis, consistent with export licensing policy for Russia prior to enactment of these sanctions.

Wholly-Owned U.S. and Other Foreign Subsidiaries: Exports and reexports of goods or technology pursuant to new licenses for exports and reexports to wholly-owned U.S. and other foreign subsidiaries in Russia, provided that such licenses shall be issued on a case-by-case basis, consistent with export licensing policy for Russia prior to enactment of these sanctions.

Space Flight: Exports and reexports of goods or technology pursuant to new licenses in support of government space cooperation and commercial space launches, provided that such licenses shall be issued on a case-by-case basis, consistent with export licensing policy for Russia prior to enactment of these sanctions.

Commercial End-Users: Exports and reexports of goods or technology pursuant to new licenses for commercial end-users civil end-uses in Russia, provided that such licenses shall be issued on a case-by-case basis, consistent with export licensing policy for Russia prior to enactment of these sanctions.

These measures shall be implemented by the responsible departments and agencies of the United States Government and will remain in place for at least one year and until further notice.

Choo S. Kang,
Assistant Secretary of State, Acting, International Security and Nonproliferation, U.S. Department of State.

[FR Doc. 2019-18050 Filed 8-23-19; 8:45 am]

BILLING CODE 4710-27-P